Title 3—

The President

Proclamation 9214 of November 26, 2014

Thanksgiving Day, 2014

By the President of the United States of America

A Proclamation

Thanksgiving Day invites us to reflect on the blessings we enjoy and the freedoms we cherish. As we gather with family and friends to take part in this uniquely American celebration, we give thanks for the extraordinary opportunities we have in a Nation of limitless possibilities, and we pay tribute to all those who defend our Union as members of our Armed Forces. This holiday reminds us to show compassion and concern for people we have never met and deep gratitude toward those who have sacrificed to help build the most prosperous Nation on earth. These traditions honor the rich history of our country and hold us together as one American family, no matter who we are or where we come from.

Nearly 400 years ago, a group of Pilgrims left their homeland and sailed across an ocean in pursuit of liberty and prosperity. With the friendship and kindness of the Wampanoag people, they learned to harvest the rich bounty of a new world. Together, they shared a successful crop, celebrating bonds of community during a time of great hardship. Through times of war and of peace, the example of a Native tribe who extended a hand to a new people has endured. During the American Revolution and the Civil War, days of thanksgiving drew Americans together in prayer and in the spirit that guides us to better days, and in each year since, our Nation has paused to show our gratitude for our families, communities, and country.

With God's grace, this holiday season we carry forward the legacy of our forebears. In the company of our loved ones, we give thanks for the people we care about and the joy we share, and we remember those who are less fortunate. At shelters and soup kitchens, Americans give meaning to the simple truth that binds us together: we are our brother's and our sister's keepers. We remember how a determined people set out for a better world—how through faith and the charity of others, they forged a new life built on freedom and opportunity.

The spirit of Thanksgiving is universal. It is found in small moments between strangers, reunions shared with friends and loved ones, and in quiet prayers for others. Within the heart of America's promise burns the inextinguishable belief that together we can advance our common prosperity—that we can build a more hopeful, more just, and more unified Nation. This Thanksgiving, let us recall the values that unite our diverse country, and let us resolve to strengthen these lasting ties.

NOW, THEREFORE, I, BARACK OBAMA, President of the United States of America, by virtue of the authority vested in me by the Constitution and the laws of the United States, do hereby proclaim Thursday, November 27, 2014, as a National Day of Thanksgiving. I encourage the people of the United States to join together—whether in our homes, places of worship, community centers, or any place of fellowship for friends and neighbors—and give thanks for all we have received in the past year, express appreciation to those whose lives enrich our own, and share our bounty with others.

IN WITNESS WHEREOF, I have hereunto set my hand this twenty-sixth day of November, in the year of our Lord two thousand fourteen, and of the Independence of the United States of America the two hundred and thirty-ninth.

[FR Doc. 2014-28494

Filed 12-2-14; 8:45 am]

Billing code 3295-F5